DEPARTMENT OF HEALTH AND HUMAN SERVICES

Centers for Disease Control and Prevention

[60Day-06-0237]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5960 or send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

The 2007-2008 National Health and Nutrition Examination Survey (NHANES)-(0920-0237)—Revision—National Center for Health Statistics (NCHS), Centers for Disease Control and Prevention (CDC).

Background and Brief Description

The National Health and Nutrition Examination Survey (NHANES) has been conducted periodically since 1970 and continuously since 1999 by the National Center for Health Statistics, CDC. About 5,000 participants will be examined annually. They will receive an interview, a physical examination, a telephone dietary interview, a home allergen dust collection and a telephone interview. The telephone interview, as well as selected questions in the household interview will be referred to as the Flexible Consumer Behavior Survey (FCBS) and will include questions on food expenditures, diet and health knowledge and other food and nutrition topics. Participation in the survey is completely voluntary and confidential.

NHANES programs produce descriptive statistics which measure the health and nutrition status of the general population. Through the use of questionnaires, physical examinations, and laboratory tests, NHANES studies the relationship between diet, nutrition and health in a representative sample of the United States. NHANES monitors the prevalence of chronic conditions and risk factors related to health such as asthma, osteoporosis, infectious diseases, diabetes, eye disease, high blood pressure, high cholesterol, obesity, smoking, drug and alcohol use, physical activity, environmental exposures, and diet. NHANES data are used to establish the norms for the general population against which health care providers can compare such patient characteristics as height, weight, and nutrient levels in the blood. Data from NHANES can be compared to those from previous surveys to monitor changes in the health of the U.S. population. For this revision, NHANES will also establish a national probability sample of genetic material for future genetic research for susceptibility to disease.

Users of NHANES data include Congress; the World Health Organization; Federal agencies such as NIH, EPA, and USDA; private groups such as the American Heart Association; schools of public health; private businesses; individual practitioners; and administrators. NHANES data are used to establish, monitor, and/or evaluate recommended dietary allowances, food fortification policies, environmental exposures, immunization guidelines and health education and disease prevention programs. NCHS is seeking OMB approval through April 2009.

There is no net cost to respondents other than their time. Respondents are reimbursed for any out-of-pocket costs such as transportation to and from the examination center.

Estimated Annualized Burden Table
Burden category | Number of respondents | Number of responses/ respondent | Avg. burden per response (in hours) | Total burden hours
1. Screening Interview Only | 13,333 | 1 | 10/60 | 2,222
2. Screener, Family, and Sample Participant Interviews Only | 300 | 1 | 1.10 | 330
3. Screener, Family, and Sample Participant Interviews and Examination | 5,180 | 1 | 5.9 | 30,562
4. Household Dust Collection | 2,328 | 1 | 36/60 | 1,397
5. Second Dietary Interview | 4,300 | 1 | 30/60 | 2,150
6. Telephone Interview (FCBS) | 3,000 | 1 | 30/60 | 1,500
7. Special Studies | 4,000 | 1 | 5.9 | 23,600
Total |  |  |  | 61,761

Dated: March 22, 2006.
Joan F. Karr,
Acting Reports Clearance Officer, Centers for Disease Control and Prevention.

[FR Doc. E6-4774 Filed 3-31-06; 8:45 am]

BILLING CODE 4163-18-P